U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

Name: Larry M. Wortzel, Chairman of the U.S.-China Economic and Security Review Commission.

The Commission is mandated by Congress to investigate, assess, evaluate and report to Congress annually on “regional economic and security impacts.” The mandate specifically charges the Commission to evaluate “The triangular economic and security relationship among the United States, Taipei and the People's Republic of China (including the military modernization and force deployments of the People's Republic of China aimed at Taipei).” In addition, the Commission must examine “The effect of the large and growing economy of the People's Republic of China on world energy supplies and the role the United States can play (including joint research and development efforts and technological assistance), in influencing the energy policy of the People's Republic of China.”

Pursuant to this mandate, the Commission will hold a public hearing in Washington, DC on August 3-4, 2006.

Background

This event is the seventh in a series of public hearings the Commission will hold during its 2006 report cycle to collect input from leading experts in academia, business, industry, government and the public on the impact of the economic and national security implications of the U.S. growing bilateral trade and economic relationship with China. The August 3-4 hearing is being conducted to obtain commentary about issues connected to China's global diplomatic activities and strategies and the country's energy security. Information on upcoming hearings, as well as transcripts of past Commission hearings, can be obtained from the USCC Web site http://www.uscc.gov.

The August 3 hearing will address “China's Role in the World: Is China a Responsible Stakeholder?” and will be Co-chaired by Vice Chairman Carolyn Bartholomew and Commissioner Daniel Blumenthal. The August 4 hearing will address “China's Energy Security” and will be Co-chaired by Commissioners Michael Wessel and Daniel Blumenthal.

Purpose of Hearing

The hearing is designed to assist the Commission in fulfilling its mandate by identifying and assessing the impact of China's global diplomacy on U.S. national interests, evaluating its participation in international organizations, such as the Shanghai Cooperation Organization, examining its relationships with countries of concern, and reviewing China's energy demands and policies, including its strategies for oil acquisition and activities of international cooperation designed to improve energy efficiency. Invited witnesses include congressional members, administration officials, and academic experts, and research fellows.

Copies of the hearing agenda will be made available on the Commission's Web site http://www.uscc.gov. Any interested party may file a written statement by August 3, 2006, by mailing to the contact below.

Date and Time: Thursday, August 3, 2006, 8:30 a.m. to 5 pm, and Friday, August 4, 2006, 8:30 a.m. to 12:30 p.m. Eastern Standard Time. A detailed agenda for the hearing will be posted to the Commission's Web site at http://www.uscc.gov in the near future.

ADDRESSES: The hearing will be held in Room 385, Russell Senate Office Building. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone 202-624-1409, or via e-mail at kmichels@uscc.gov.

Authority: Congress created the U.S.-China Economic and Security Review Commission in 2000 in the National Defense Authorization Act (Public Law 106-398 as amended by Division P of the Consolidated Appropriations Resolution, 2003 (Pub. L. 108-7), as amended by Pub. L. 109-108 (November 22, 2005).

Dated: July 17, 2006.
Kathleen J. Michels,
Associate Director, U.S.-China Economic and Security Review Commission.

[FR Doc. E6-11542 Filed 7-19-06; 8:45 am]

BILLING CODE 1137-00-P